NUCLEAR REGULATORY COMMISSION

[DOCKET NOS. 50-272 AND 50-311]

PSEG Nuclear LLC; Notice of Withdrawal of Application for Amendment to Facility Operating License

The U.S. Nuclear Regulatory Commission (the Commission) has granted the request of PSEG Nuclear LLC (the licensee) to withdraw its application dated August 4, 2006, as supplemented by letter dated March 8, 2007, for proposed amendment to Facility Operating License Nos. 50-272 and 50-311 for the Salem Nuclear Generating Station, Unit Nos. 1 and 2, located in Salem County, New Jersey.

The proposed amendment would have revised Technical Specification 3/4.9.3, “Decay Time,” to allow the movement of irradiated fuel in the reactor pressure vessel to commence at 24 hours after shutdown or at the decay time calculated using the licensee's spent fuel pool integrated decay heat management program, whichever is later. The Commission had previously issued a Notice of Consideration of Issuance of Amendment published in the Federal Register on December 19, 2006 (71 FR 75999). However, by letter dated August 13, 2007, the licensee withdrew the proposed change.

For further details with respect to this action, see the application for amendment dated August 4, 2006, as supplemented by letter dated March 8, 2007, and the licensee's letter dated August 13, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 29th day of August 2007.
For the Nuclear Regulatory Commission.
Richard B. Ennis,
Senior Project Manager, Plant Licensing Branch I-2, Division of Operating Reactor Licensing, Office of Nuclear Reactor Regulation.

[FR Doc. E7-17606 Filed 9-5-07; 8:45 am]

BILLING CODE 7590-01-P